FEDERAL MARITIME COMMISSION

Ocean Transportation Intermediary License; Correction

In the Federal Register Notice published March 27, 2003 (68 FR 14983) the reference to ACS Cargo Systems, Inc. dba Expedite America Express is corrected to read:

“MCS Cargo Systems, Inc. dba Expedite America Express”

Dated: April 25, 2003.
Bryant L. VanBrakle,
Secretary.

[FR Doc. 03-10681 Filed 4-29-03; 8:45 am]

BILLING CODE 6730-01-P